DEPARTMENT OF HEALTH AND HUMAN SERVICES

Centers for Medicare & Medicaid Services

[Document Identifier: CMS-10232]

Public Information Collection Requirements Submitted to the Office of Management and Budget (OMB); Correction

AGENCY: Centers for Medicare & Medicaid Services (CMS), HHS.

ACTION: Correction of notice.

SUMMARY: This document corrects a technical error in the notice [Document Identifier: CMS-10232] entitled “State Plan Template to Implement Section 6062 of the Deficit Reduction Act (DRA) of 2005” that was published in the December 7, 2007 Federal Register.

FOR FURTHER INFORMATION CONTACT: Melissa Musotto, (410) 786-6962.

SUPPLEMENTARY INFORMATION:

I. Background

In the FR Doc. E7-23746 of December 7, 2007 (72 FR 69218), we published a Paperwork Reduction Act notice requesting a 30-day public comment period for the document entitled “State Plan Template to Implement Section 6062 of the Deficit Reduction Act of 2005.”

In the date December 7, 2007 notice, we inadvertently included information pertaining to another new collection (CMS-10251). Therefore, we are correcting that error in this notice.

II. Correction of Error

In FR Doc. E7-23746 of December 7, 2007 (72 FR 69218), make the following correction:

On page 69218, first column, second full paragraph beginning with the phrase “1. Type of Information Collection” and ending with figure “600” is corrected to read as follows:

``1. Type of Information Collection Request: New Collection; Title of Information Collection: State Plan Template to Implement Section 6062 of the Deficit Reduction Act (DRA) of 2005; Use: The DRA provides States with numerous flexibilities in operating their State Medicaid Programs. Section 6062 of the DRA (Opportunity for families of Disabled Children to Purchase Medicaid Coverage for Such Children) allows States the opportunity to provide Medicaid benefits to disabled children who would otherwise be ineligible because of family income that is above the State's highest Medicaid eligibility standards for children. It specifically allows families with disabled children to “buy-in” to Medicaid, and prevents them from having to stay impoverished, become impoverished, place their children in out-of-home placements, or simply give up custody of their child in order to access needed health care for their disabled children.

Under the DRA, States must submit a SPA to CMS to effectuate this change to their Medicaid programs. CMS will provide a State Medicaid Director letter providing guidance on this provision and the associated SPA template for use by States to modify their Medicaid State Plans if they choose to implement this provision. Providing the State with this SPA template will reduce State burden significantly. Form Numbers: CMS-10232 (OMB #: 0938-NEW); Frequency: Reporting—Once; Affected Public: State, Local, or Tribal Governments; Number of Respondents: 56; Total Annual Responses: 30; Total Annual Hours: 600.

Dated: December 26, 2007.
Michelle Shortt,
Director, Regulations Development Group, Office of Strategic Operations and Regulatory Affairs.

[FR Doc. 07-6256 Filed 12-26-07; 2:15 pm]

BILLING CODE 4120-01-P